NATIONAL SCIENCE FOUNDATION

Sunshine Act Meeting

AGENCY HOLDING MEETING: National Science Foundation, National Science Board.

DATE AND TIME: October 11, 2001: 11 a.m.-11:30 a.m., Closed Session; October 11, 2001: 11:30 a.m.-1 p.m., Open Session.

PLACE: The National Science Foundation, Room 1235, 4201 Wilson Boulevard, Arlington, VA 22230, www.nsf.gov/nsb.

STATUS: Part of this meeting will be close to the public; part of this meeting will be open to the public.

MATTERS TO BE CONSIDERED:

Thursday, October 11, 2001

Closed Session (11 a.m.-11:30 p.m.)

—Closed Session Minutes, August, 2001

—NSF Budget

Open Session (11:30 a.m.-1 p.m.)

—Open Session Minutes, August, 2001

—Closed Session Items for November, 2001

—Chairman's Report

—Director's Report

—SPI Report—Approval

—SEI 2002—Approval

—Merit Review Criterion—Broader Impacts

—Committee Reports

—Other Business

Marta Cehelsky,
Executive Officer.

[FR Doc. 01-24773 Filed 9-28-01; 3:02 pm]

BILLING CODE 7555-01-M